DEPARTMENT OF LABOR

Office of the Secretary: Combating Exploitative Child Labor by Promoting Sustainable Livelihoods and Educational Opportunities for Children in Egypt and Jordan

AGENCY: Bureau of International Labor Affairs, U.S. Department of Labor.

ACTION: Notice of Intent to Solicit Cooperative Agreement Applications.

SUMMARY: The U.S. Department of Labor (USDOL), Bureau of International Labor Affairs (ILAB), intends to award, through a competitive and merit-based process, two or more cooperative agreements to organizations to implement projects to combat exploitative child labor by promoting educational and training opportunities for target children and sustainable livelihoods for their households. In FY 2010, ILAB received Congressional authority to fund subgrants and microfinance activities.

ILAB intends to obligate up to $9.5 million for a child labor elimination project(s) in Egypt and up to $4 million for a child labor elimination project(s) in Jordan. Projects to be funded under these solicitations will need to address the following five goals:

1. Reducing exploitative child labor, especially the worst forms through the provision of direct educational services and by addressing root causes of child labor, including innovative strategies to promote sustainable livelihoods of target households;

2. Strengthening policies on child labor, education, and sustainable livelihoods, and the capacity of national institutions to combat child labor, address its root causes, and promote formal, nonformal and vocational education opportunities to provide children with alternatives to child labor;

3. Raising awareness of exploitative and hazardous child labor and its root causes, and the importance of education for all children and mobilizing a wide array of actors to improve and expand education infrastructures;

4. Supporting research, evaluation, and the collection of reliable data on child labor, its root causes, and effective strategies, including educational and vocational alternatives, microfinance and other income generating activities to improve household income; and

5. Ensuring the long-term sustainability of these efforts.

ILAB intends to solicit cooperative agreement applications from qualified organizations (i.e., any commercial, international, educational, or non-profit organization, including any faith-based, community-based, or public international organization(s), capable of successfully developing and implementing child labor projects) to implement these projects. Please refer to http://www.dol.gov/ILAB/grants/main.htm for examples of previous notices of availability of funds and solicitations for cooperative agreement applications (SGAs).

Key Dates: The forthcoming SGAs will be published on http://www.grants.gov and USDOL/ILAB's Web site. A brief synopsis of the SGA(s), which will include Web site links to the full text solicitation(s), will be published in the Federal Register. The SGA(s) will remain open for at least 45 days from the date of publication. All cooperative agreement awards will be made on or before December 31, 2010.

Submission Information: Applications in response to the forthcoming SGAs may be submitted electronically via http://www.grants.gov or hard copy by mail. Hard copy applications must be delivered to: U.S. Department of Labor, Procurement Services Center, 200 Constitution Avenue, NW., Room S-4307, Washington, DC 20210, Attention: Georgiette Nkpa. Any application sent by other delivery methods, including e-mail, telegram, or facsimile (FAX) will not be accepted.

FOR FURTHER INFORMATION CONTACT: Mrs. Georgiette Nkpa. E-mail address: nkpa.georgiette@dol.gov. All inquiries should make reference to the USDOL Combating Exploitative Child Labor by Promoting Sustainable Livelihoods and Educational Opportunities for Children in Egypt and Jordan—Solicitations for Cooperative Agreement Applications. Information on specific target groups, sectors, geographic regions, and funding levels for the potential projects in the countries listed above will be addressed in one or more solicitations for cooperative agreement applications to be published prior to September 30, 2010. Potential applicants should not submit inquiries to USDOL for further information on these award opportunities until after USDOL's publication of the solicitation(s). For a list of frequently asked questions on ILAB's Solicitations for Cooperative Agreement Applications (based on last year's solicitation, SGA 09-06), please visit http://www.dol.gov/ilab/grants/20090624/SGAQandAs.pdf.

Background Information: Since 1995, the U.S. Congress has appropriated over $780 million to ILAB for efforts to combat exploitative child labor internationally. This funding has been used to support technical cooperation projects to combat exploitative child labor, including the worst forms, in more than 80 countries around the world. Technical cooperation projects funded by USDOL range from targeted action programs in specific sectors of work to more comprehensive programs that support national efforts to eliminate the worst forms of child labor, as defined by International Labor Organization (ILO) Convention 182. USDOL-funded projects have withdrawn or prevented over 1.4 million children from exploitative child labor.

Signed at Washington, DC, this 7th day of September, 2010.
Cassandra R. Mitchell,
Grant Officer.

[FR Doc. 2010-23081 Filed 9-15-10; 8:45 am]

BILLING CODE 4510-28-P